INTERNATIONAL TRADE COMMISSION

[Investigation Nos. 731-TA-1578-1579 (Final)]

Lemon Juice From Brazil and South Africa

Determinations

On the basis of the record ¹ developed in the subject investigations, the United States International Trade Commission (“Commission”) determines, pursuant to the Tariff Act of 1930 (“the Act”), that an industry in the United States is materially injured by reason of imports of lemon juice from Brazil and South Africa, provided for in subheadings 2009.31.40, 2009.31.60, and 2009.39.60 of the Harmonized Tariff Schedule of the United States, that have been found by the U.S. Department of Commerce (“Commerce”) to be sold in the United States at less than fair value (“LTFV”).2 3

¹ The record is defined in § 207.2(f) of the Commission's Rules of Practice and Procedure (19 CFR 207.2(f)).

² 87 FR 78928 (December 23, 2022); 87 FR 78939 (December 23, 2022).

³ Chairman David S. Johanson determines that an industry in the United States is threatened with material injury by reason of imports of lemon juice from Brazil and South Africa.

Background

The Commission instituted these investigations effective December 30, 2021, following receipt of petitions filed with the Commission and Commerce by Ventura Coastal LLC, Ventura, California. The Commission scheduled the final phase of the investigations following notification of preliminary determinations by Commerce that imports of lemon juice from Brazil and South Africa were being sold at LTFV within the meaning of section 733(b) of the Act (19 U.S.C. 1673b(b)). Notice of the scheduling and subsequent revised schedule of the final phase of the Commission's investigations and of a public hearing to be held in connection therewith was given by posting copies of the notices in the Office of the Secretary, U.S. International Trade Commission, Washington, DC, and by publishing the notices in the Federal Register of August 23, 2022 (87 FR 51701) and September 28, 2022 (87 FR 58821). The Commission conducted its hearing on December 15, 2022. All persons who requested the opportunity were permitted to participate.

The Commission made these determinations pursuant to § 735(b) of the Act (19 U.S.C. 1673d(b)). It completed and filed its determinations in these investigations on February 6, 2023. The views of the Commission are contained in USITC Publication 5403 (February 2023), entitled Lemon Juice from Brazil and South Africa: Investigation Nos. 731-TA-1578-1579 (Final).

By order of the Commission.
Issued: February 6, 2023.
Katherine Hiner,
Acting Secretary to the Commission.

[FR Doc. 2023-02834 Filed 2-9-23; 8:45 am]

BILLING CODE 7020-02-P